DEPARTMENT OF TRANSPORTATION

Federal Aviation Administration

Noise Exposure Map Notice; Receipt of Noise Compatibility Program and Request for Review, Ted Stevens Anchorage International Airport and Lake Hood Seaplane Base, Anchorage, Alaska

AGENCY: Federal Aviation Administration, DOT.

ACTION: Notice.

SUMMARY: The Federal Aviation Administration (FAA) announces its determination that the Noise Exposure Maps submitted by the Alaska Department of Transportation & Public Facilities for Ted Stevens Anchorage International Airport and Lake Hood Seaplane Base under the provisions of 49 U.S.C. 47501 et. seq. (Aviation Safety and Noise Abatement Act) are in compliance with applicable requirements. The FAA also announces that it is reviewing a proposed Noise Compatibility Program that was submitted for Ted Stevens Anchorage International Airport and Lake Hood Seaplane Base and that this program will be approved or disapproved on or before January 23, 2016.

DATES: Effective Date: The effective date of the FAA's determination on the Noise Exposure Maps and of the start of its review of the associated Noise Compatibility Program is July 27, 2015. The public comment period ends September 25, 2015.

ADDRESSES: All comments, other than those properly addressed to local land use authorities; will be considered by the FAA to the extent practicable. Copies of the Noise Exposure Maps, the FAA's evaluation of the maps, and the proposed Noise Compatibility Program are available for examination by appointment at the following locations:

Federal Aviation Administration, Alaskan Region, Airports Division, 222 W. 7th Avenue, Annex Building, Rm. A36, Anchorage, Alaska 99513.

Ted Stevens Anchorage International Airport, 5000 W. International Airport Rd. Suite C3820, Anchorage, Alaska 99502.

FOR FURTHER INFORMATION CONTACT: Leslie Grey, Federal Aviation Administration, Anchorage, AK, Alaskan Region Airports Division, 222 W. 7th Avenue, Box #14, Anchorage, Alaska 99513, 907-271-5453. Comments on the proposed Noise Compatibility Program should also be submitted to the above office.

SUPPLEMENTARY INFORMATION: This Notice announces that the FAA finds that the Noise Exposure Maps submitted for Ted Stevens Anchorage International Airport and Lake Hood Seaplane Base are in compliance with applicable requirements of 14 CFR part 150, effective July 27, 2015. Further, FAA is reviewing a proposed Noise Compatibility Program under Part 150 in conjunction with the Noise Exposure Map which will be approved or disapproved on or before January 23, 2016. This notice also announces the availability of this Program for public review and comment.

Under 49 U.S.C., Section 47503, the Aviation Safety and Noise Abatement Act, (the Act), an airport operator may submit to the FAA Noise Exposure Maps which meet applicable regulations and which depict non-compatible land uses as of the date of submission of such maps, a description of projected aircraft operations, and the ways in which such operations will affect such maps. The Act requires such maps to be developed in consultation with interested and affected parties in the local community, government agencies, and persons using the airport.

An airport operator who has submitted Noise Exposure Maps that are found by FAA to be in compliance with the requirements of Part 150, promulgated pursuant to the Act, may submit a Noise Compatibility Program for FAA approval which sets forth the measures the operator has taken or proposes to take to reduce existing non-compatible uses and prevent the introduction of additional non-compatible uses.

The Alaska Department of Transportation & Public Facilities submitted to the FAA on December 19, 2014 Noise Exposure Maps, descriptions and other documentation that were produced during the conducted between November 17, 2011 and December 19, 2014. It was requested that the FAA review this material as the Noise Exposure Maps, as described in Section 47503 of the Act, and that the noise mitigation measures, to be implemented jointly by the airports and surrounding communities, be approved as a Noise Compatibility Program under Section 47504 of the Act.

The FAA has completed its review of the Noise Exposure Maps and accompanying documentation submitted by the Alaska Department of Transportation & Public Facilities. The documentation that constitutes the “Noise Exposure Maps” as defined in Section 150.7 of Part 150 include: Figure D31 Exisitng Noise Exposure Map—2009 and Figure I1 Future Noise Exposre Map—2020 and the accompanying documentation are in compliance with applicable requirements. This determination is effective on July 27, 2015. FAA's determination on the airport operator's Noise Exposure Maps is limited to a finding that the maps were developed in accordance with the procedures contained in Appendix A of 14 CFR part 150. Such determination does not constitute approval of the airport operator's data, information or plans, or a commitment to approve a Noise Compatibility Program or to fund the implementation of that Program.

If questions arise concerning the precise relationship of specific properties to noise exposure contours depicted on a Noise Exposure Map submitted under Section 47503 of the Act, it should be noted that the FAA is not involved in any way in determining the relative locations of specific properties with regard to the depicted noise exposure contours, or in interpreting the Noise Exposure Maps to resolve questions concerning, for example, which properties should be covered by the provisions of Section 47506 of the Act. These functions are inseparable from the ultimate land use control and planning responsibilities of local government. These local responsibilities are not changed in any way under Part 150 or through FAA's review of Noise Exposure Maps. Therefore, the responsibility for the detailed overlaying of noise exposure contours onto the map depicting properties on the surface rests exclusively with the airport operator that submitted those maps, or with those public agencies and planning agencies with which consultation is required under Section 47503 of the Act. The FAA has relied on the certification by the airport operator, under Section 150.21 of Part 150, that the statutorily required consultation has been accomplished.

The FAA has formally received the Noise Compatibility Program for Ted Stevens Anchorage International Airport and Lake Hood Seaplane Base, also effective on July 27, 2015. Preliminary review of the submitted material indicates that it conforms to the requirements for the submittal of Noise Compatibility Programs, but that further review will be necessary prior to approval or disapproval of the program. The formal review period, limited by law to a maximum of 180 days, will be completed on or before January 23, 2016.

The FAA's approval or disapproval of each specific measure proposed by an airport sponsor in a Noise Compatibility Plan is determined by applying approval criteria prescribed in 14 CFR 150.35(b). Only measures that meet the approval criteria can be approved and considered for Federal funding eligibility. Note that FAA approval or disapproval of a measure only indicates whether that measure would, if implemented, be consistent with the purposes of 14 CFR part 150. When an ROA measure is disapproved by the FAA, airport sponsors are not precluded from and are encouraged to work with the FAA and their communities outside of the rigors of the Part 150 process to implement initiatives that provide noise benefits for the surrounding community. Approval of a measure does not constitute a FAA funding commitment or decision to implement that measure.

Interested persons are invited to comment on the proposed program with specific reference to these factors. To maximize the effectiveness of comments and the FAAs understanding of them, comments should be as specific as possible identifying the concern(s) as well as suggested or desired resolution to the concern(s). When possible, quote text and cite details such as page and section numbers, NCP measure number, etc. to which the comment(s) pertain(s). This commenting procedure is intended to ensure that substantive comments and concerns are made available to the FAA in a timely manner so that the FAA has an opportunity to address them in its Record of Approval. Please note, all comments in their entirety become part of the public record, including any personal information provided in the comment including name, address, phone number, etc.

To arrange an appointment to review the documents and any questions may be directed to the individual named above under the heading, FOR FURTHER INFORMATION CONTACT.

Issued in Anchorage, Alaska, July 27, 2015.
Byron K. Huffman,
Manager, Alaskan Region Airports Division.

[FR Doc. 2015-18822 Filed 7-30-15; 8:45 am]

BILLING CODE 4910-13-P